DEPARTMENT OF TRANSPORTATION

National Highway Traffic Safety Administration

Announcing the First Quarterly Meeting of the Crash Injury Research and Engineering Network

AGENCY: National Highway Traffic Safety Administration (NHTSA), DOT.

ACTION: Meeting Announcement.

SUMMARY: This notice announces the First Quarterly Meeting of members of the Crash Injury Research and Engineering Network. CIREN is a collaborative effort to conduct research on crashes and injuries at eight Level 1 Trauma Centers which are linked by a computer network. Researchers can review data and share expertise, which could lead to a better understanding of crash injury mechanisms and the design of safer vehicles.

DATE AND TIME: The meeting is scheduled from 8:30 a.m. to 5:00 p.m. on May 5, 2000.

ADDRESSES: The meeting will be held in Room 6200-04 of the U.S. Department of Transportation Building, which is located at 400 Seventh Street, SW, Washington, DC.

SUPPLEMENTARY INFORMATION: The CIREN System has been established and crash cases have been entered into the database by each Center. NHTSA has held three Annual Conferences (two in Detroit and one in conjunction with STAPP in San Diego) where CIREN research results were presented. Further information about the three previous CIREN conferences is available through the NHTSA website at: http://www-nrd.nhtsa.dot.gov/bio_and_trauma/ciren-final.htm.

NHTSA plans to begin holding quarterly meetings on a regular basis to disseminate this information to interested parties. This is the first such meeting. The topic for this meeting is lower extremity injuries in motor vehicle crashes. Subsequent meetings have tentatively been scheduled for July and October. These quarterly meetings will be in lieu of an annual CIREN conference.

FOR FURTHER INFORMATION CONTACT: Mrs. Donna Stemski, Office of Human-Centered Research, 400 Seventh Street, SW, Room 6220, Washington, DC 20590, telephone: (202) 366-5662.

Issued on: April 5, 2000.
Joseph N. Kanianthra,
Acting Associate Administrator for Research and Development, National Highway Traffic Safety Administration.

[FR Doc. 00-8940 Filed 4-10-00; 8:45 am]

BILLING CODE 4910-59-P